DEPARTMENT OF ENERGY

Federal Energy Regulatory Commission

[Docket No. ER00-3092-001, et al.]

K2 Development LLC, et al.; Electric Rate and Corporate Regulation Filings

August 14, 2000.

Take notice that the following filings have been made with the Commission:

1. K2 Development LLC

[Docket No. ER00-3092-001]

Take notice that on August 9, 2000, K2 Development LLC (formerly known as Vitol Gas & Electric LLC) tendered for filing an amendment to its Notice of Name Change in the above-captioned proceeding. The amendment consists of (i) its First Revised Rate Schedule FERC No. 1, designated and formatted to comply with the Commission's recently-adopted regulations on rate schedule designations, 18 CFR 35.9 (adopted in Order No. 614), and (ii) Notices of Cancellation pursuant to Sections 35.15 and 131.53 of the Commission's Regulations, 18 CFR 35.15 and 131.53, with respect to its Rate Schedule FERC Nos. 2 through 24 and any and all supplements thereto.

Comment date: August 30, 2000, in accordance with Standard Paragraph E at the end of this notice.

2. Cleco Energy LLC

[Docket No. ER00-3382-000]

Take notice that on August 9, 2000, Cleco Energy LLC (Cleco Energy), tendered for filing proposed cancellation of its FERC Electric Service Tariff, Rate Schedule F.E.R.C. No. 1, and Supplement No. 1 to Rate Schedule F.E.R.C. No. 1, Revision No. 1, Docket No. ER99-3947-000.

Cleco Energy has not made any electric sales under the above named Rate Schedule and none are envisioned.

Comment date: August 30, 2000, in accordance with Standard Paragraph E at the end of this notice.

3. Allegheny Power Service Corporation, on behalf of Monongahela Power Company, The Potomac Edison Company, and West Penn Power Company (Allegheny Power)

[Docket No. ER00-3383-000]

Take notice that on August 9, 2000 Allegheny Power Service Corporation on behalf of Monongahela Power Company, The Potomac Edison Company and West Penn Power Company (Allegheny Power), filed Service Agreement No. 320 to add FirstEnergy Trading Services, Inc. to Allegheny Power's Open Access Transmission Service Tariff.

The proposed effective date under the agreement is August 8, 2000.

Copies of the filing have been provided to the Public Utilities Commission of Ohio, the Pennsylvania Public Utility Commission, the Maryland Public Service Commission, the Virginia State Corporation Commission, and the West Virginia Public Service Commission.

Comment date: August 30, 2000, in accordance with Standard Paragraph E at the end of this notice.

4. Virginia Electric and Power Company

[Docket No. ER00-3384-000]

Take notice that on August 9, 2000, Virginia Electric and Power Company, doing business as Virginia Power (the Company), filed a letter agreement dated December 15, 1999, that provides for service to Northern Virginia Electric Cooperative (the Cooperative). The letter agreement amends an existing service agreement with Old Dominion Electric Cooperative (ODEC) by establishing the terms and conditions for the addition of “excess facilities” at the Beamertown Delivery Point to improve service to the Cooperative.

The Company requests their filing be made effective on August 25, 2000.

Copies of the filing were served upon the Cooperative, ODEC and the Virginia State Corporation Commission.

Comment date: August 30, 2000, in accordance with Standard Paragraph E at the end of this notice.

5. Central Illinois Light Company

[Docket No. ER00-3386-000]

Take notice that on August 9, 2000, Central Illinois Light Company (CILCO), 300 Liberty Street, Peoria, Illinois 61602, tendered for filing with the Federal Energy Regulatory Commission (Commission) an Interconnection Agreement with Bio-Energy Partners for Generation Interconnection and Parallel Operation.

CILCO requested an effected date of July 10, 2000.

Copies of the filing were served on the affected customer and the Illinois Commerce Commission.

Comment date: August 30, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-21149 Filed 8-18-00; 8:45 am]

BILLING CODE 6717-01-P